NATIONAL AERONAUTICS AND SPACE ADMINISTRATION

[Notice (07-092)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: December 7, 2007.

FOR FURTHER INFORMATION CONTACT: Linda B. Blackburn, Patent Counsel, Langley Research Center, Mail Code 141, Hampton, VA 23681-2199; telephone (757) 864-3221; fax (757) 864-9190.

NASA Case No. LAR-17317-1: Extreme Low Frequency Acoustic Measurement Portable System;

NASA Case No. LAR-17213-1: High Altitude Airship Configuration and Power Technology and Method for Operation of Same;

NASA Case No. LAR-17300-1: System and Method for Determination of the Reflection Wavelength of Multiple Low-Reflectivity Bragg Gratings in a Sensing Optical Fiber;

NASA Case No. LAR-17440-1: Resonant Difference-Frequency Atomic Force Ultrasonic Microscope;

NASA Case No. LAR-17433-1: Wireless System and Method for Collecting Rotating System Data;

NASA Case No. LAR-17502-1: Flame Holder System;

NASA Case No. LAR-17355-1: System and Method for Aiding Pilot Preview, Rehearsal, Review, and Real-Time Visual Acquisition of Flight Mission Progress;

NASA Case No. LAR-17444-1: Wireless Tamper Detection Sensor and Sensing System;

NASA Case No. LAR-17135-1: Fabrication of Metal Nanoshells.

Dated: November 30, 2007.
Keith T. Sefton,
Deputy General Counsel, Administration and Management.

[FR Doc. E7-23744 Filed 12-6-07; 8:45 am]

BILLING CODE 7510-13-P